DEPARTMENT OF THE INTERIOR

Bureau of Land Management

43 CFR Part 3160

[WO-300-L13100000.FJ0000]

RIN 1004-AE26

Oil and Gas; Well Stimulation, Including Hydraulic Fracturing, on Federal and Indian Lands

AGENCY: Bureau of Land Management, Interior.

ACTION: Proposed rule; extension of comment period.

SUMMARY: On May 11, 2012, the Bureau of Land Management (BLM) published in the Federal Register a proposed rule to regulate hydraulic fracturing on public land and Indian land. The rule would require disclosure to the public of chemicals used in hydraulic fracturing on public land and Indian land, strengthen regulations related to well-bore integrity, and address issues related to flowback water. This rule is necessary to provide useful information to the public and to help ensure that hydraulic fracturing is conducted in a way that adequately protects the environment.

Due to the complexity of the rule and the issues surrounding it, the BLM is extending the comment period for 60 days beyond the end of the initial comment period. As a result of this extension, the comment period will now close on September 10, 2012.

DATES: The comment period for the proposed rule published May 11, 2012, at 77 FR 27691, is extended. Send your comments on this proposed rule to the BLM on or before September 10, 2012. The BLM need not consider, or include in the administrative record for the final rule, comments that the BLM receives after the close of the comment period or comments delivered to an address other than those listed below (see ADDRESSES).

ADDRESSES: Mail: U.S. Department of the Interior, Director (630), Bureau of Land Management, Mail Stop 2134 LM, 1849 C St. NW., Washington, DC 20240, Attention: 1004-AE26. Personal or messenger delivery: Bureau of Land Management, 20 M Street SE., Room 2134 LM, Attention: Regulatory Affairs, Washington, DC 20003. Federal eRulemaking Portal: http://www.regulations.gov. Follow the instructions at this Web site.

FOR FURTHER INFORMATION CONTACT: Steven Wells, Division Chief, Fluid Minerals Division, 202-912-7143 for information regarding the substance of the rule or information about the BLM's Fluid Minerals Program. Persons who use a telecommunications device for the deaf (TDD) may call the Federal Information Relay Service (FIRS) at 1-800-877-8339 to contact the above individual during normal business hours. FIRS is available 24 hours a day, 7 days a week to leave a message or question with the above individual. You will receive a reply during normal business hours.

SUPPLEMENTARY INFORMATION:

Public Comment Procedures

If you wish to comment, you may submit your comments by any one of several methods:

Mail: You may mail comments to U.S. Department of the Interior, Director (630), Bureau of Land Management, Mail Stop 2134LM, 1849 C Street NW., Washington, DC 20240, Attention: 1004-AE26. Personal or messenger delivery: Bureau of Land Management, 20 M Street SE., Room 2134 LM, Attention: Regulatory Affairs, Washington, DC 20003. Federal eRulemaking Portal: http://www.regulations.gov. Follow the instructions at this Web site.

Please make your comments as specific as possible by confining them to issues directly related to the content of this proposed rule, and explain the basis for your comments. The comments and recommendations that will be most useful and likely to influence agency decisions are:

1. Those supported by quantitative information or studies; and

2. Those that include citations to, and analyses of, the applicable laws and regulations.

The BLM is not obligated to consider or include in the Administrative Record for the rule comments received after the close of the comment period (see DATES) or comments delivered to an address other than those listed above (see ADDRESSES).

Comments, including names and street addresses of respondents, will be available for public review at the address listed under ADDRESSES during regular hours (7:45 a.m. to 4:15 p.m.), Monday through Friday, except holidays.

Before including your address, telephone number, email address, or other personal identifying information in your comment, be advised that your entire comment—including your personal identifying information—may be made publicly available at any time. While you can ask in your comment to withhold from public review your personal identifying information, we cannot guarantee that we will be able to do so.

Background

The proposed rule was published on May 11, 2012 (77 FR 27691), with a 60-day comment period closing on July 10, 2012. Since publication, the BLM has received numerous requests for extension of the comment period on the proposed rule. Because of the complexity of the rule and due to the controversial nature of well stimulation procedures, the BLM is hereby extending the comment period on the rule for 60 days. The closing date of the extended comment period is September 10, 2012.

Dated: June 20, 2012.
Marcilynn A. Burke,
Acting Assistant Secretary, Land and Minerals Management.

[FR Doc. 2012-15557 Filed 6-25-12; 8:45 am]

BILLING CODE 4310-84-P